DEPARTMENT OF LABOR

Employment and Training Administration

[TA-W-65,501]

R.H. Donnelley, Inc., Dunmore, PA; Notice of Termination of Investigation

Pursuant to Section 221 of the Trade Act of 1974, as amended, an investigation was initiated on March 5, 2009 in response to a worker petition filed on behalf of workers at R.H. Donnelley, Inc., Dunmore, Pennsylvania. The workers at the subject facility are engaged in activities related to the production of phonebooks.

The petitioners have requested that the petition be withdrawn. Consequently, the investigation has been terminated.

Signed in Washington, DC, this 20th day of April 2009.
Richard Church,
Certifying Officer, Division of Trade Adjustment Assistance.

[FR Doc. E9-10909 Filed 5-8-09; 8:45 am]

BILLING CODE 4510-FN-P